Title 3—

The President

Executive Order 13197 of January 18, 2001

Governmentwide Accountability for Merit System Principles; Workforce Information

In an era of decentralization of Federal human resources management, it is increasingly important to ensure that merit system principles are applied consistently across the Federal Government and that the Executive branch has the ability to collect information about its workforce. The President and the public need to be assured that Federal agencies are monitoring the exercise of all human resources management authorities that have been delegated to them.

Therefore, by the authority vested in me as President by the Constitution and the laws of the United States of America, including sections 1104(a)(1), 2301(c), and 3302 of title 5, United States Code, it is hereby ordered as follows:

Section 1. Civil Service Rule V (5 CFR Part 5) is amended in section 5.2 by striking subsection (d).

Sec. 2. Civil Service Rule VII (5 CFR Part 7) is amended —

(a) by striking section 7.2;

(b) by redesignating sections 7.3 and 7.4 as sections 7.2 and 7.3, respectively; and

(c) by amending the table of sections to read as follows:

“Sec.

7.1 Discretion in filling vacancies.

7.2 Reemployment rights.

7.3 Citizenship.”

Sec. 3. Two new Civil Service Rules are added at the end of Civil Service Rule VIII to read as follows:

“PART 9—WORKFORCE INFORMATION (RULE IX)

Sec.

9.1 Definition.

9.2 Reporting workforce information.

§ 9.1 Definition.

As used in this rule, 'Executive agency' means an Executive department, a Government corporation, and an independent establishment, as those terms are defined in chapter 1 of title 5, United States Code, but does not include the Federal Bureau of Investigation, the Central Intelligence Agency, the Defense Intelligence Agency, the National Imagery and Mapping Agency, the National Security Agency, and, as determined by the President, any Executive agency or unit within an Executive agency which has as its principal function the conduct of foreign intelligence or counterintelligence activities.

§ 9.2 Reporting workforce information.

The Director of the Office of Personnel Management may require all Executive agencies to report information relating to civilian employees, including positions and employees in the competitive, excepted, and Senior Executive services, in a manner and at times prescribed by the Director. The Director shall establish standards for workforce information submissions under this section, and agencies shall ensure that their submissions meet these standards consistent with the Privacy Act. The Director may exempt from this section a specific agency or group of employees when the Director determines that an exemption is appropriate because of special circumstances.

PART 10—AGENCY ACCOUNTABILITY SYSTEMS;

OPM AUTHORITY TO REVIEW PERSONNEL MANAGEMENT PROGRAMS

(RULE X)

Sec.

10.1 Definitions.

10.2 Accountability systems.

10.3 OPM authority to review personnel management programs and practices.

§ 10.1 Definitions.

For purposes of this rule —

(a) 'agency' means an Executive agency as defined in Rule IX, but does not include a Government corporation or the General Accounting Office; and

(b) 'merit system principles' means the principles for Federal personnel management that are set forth in section 2301(b) of title 5, United States Code.

§ 10.2. Accountability systems.

The Director of the Office of Personnel Management may require an agency to establish and maintain a system of accountability for merit system principles that (1) sets standards for applying the merit system principles, (2) measures the agency's effectiveness in meeting these standards, and (3) corrects any deficiencies in meeting these standards.

§ 10.3. OPM authority to review personnel management

programs and practices.

The Office of Personnel Management may review the human resources management programs and practices of any agency and report to the head of the agency and the President on the effectiveness of these programs and practices, including whether they are consistent with the merit system principles.”

wj

THE WHITE HOUSE,

January 18, 2001.

[FR Doc. 01-2398

Filed 1-24-01; 8:45 am]

Billing code 3195-01-P